DEPARTMENT OF THE INTERIOR

Bureau of Land Management

[LLORP00000.L10200000.PI0000; HAG10-0350]

Notice of Public Meeting, John Day/Snake Resource Advisory Council

AGENCY: Bureau of Land Management, Interior.

ACTION: Meeting Notice for the John Day/Snake Resource Advisory Council.

SUMMARY: Pursuant to the Federal Land Policy and Management Act and the Federal Advisory Committee Act, the U.S. Department of the Interior, Bureau of Land Management (BLM) John Day-Snake Resource Advisory Council (JDSRAC) will meet as indicated below.

DATES: The JDSRAC meeting will begin at 8 a.m. (Pacific daylight time) on September 10, 2010.

ADDRESSES: The JDSRAC will meet at the La Grande Ranger Station, Wallowa-Whitman National Forest, located at 3502 Highway 30, La Grande, Oregon 97850. For a copy of material to be discussed or the conference call number, please contact the BLM, Prineville District; information below.

SUPPLEMENTARY INFORMATION: The JDSRAC will conduct a public meeting to discuss several topics, including the Malheur National Forest's travel management alternatives, the Blue Mountain Forest Plan Revision alternatives, and updates on the Boardman to Hemingway Transmission Project and Baker Resource Management Plan. An informational presentation will be given titled `Endangered Species Act 101.' Prior to the Council meeting, a fieldtrip will occur on September 9, 2010, to follow-up on previous discussions regarding the North End Umatilla Sheep Plan. Public comment is scheduled from 1 p.m. to 1:15 p.m. (Pacific daylight time) September 10, 2010, during the Council Meeting. For a copy of information distributed to JDSRAC members, please contact the BLM Prineville District Office by telephone at (541) 416-6700 or at the address listed below.

FOR FURTHER INFORMATION CONTACT: Christina Lilienthal, Public Affairs Specialist, BLM Prineville District Office, 3050 NE Third, Prineville, Oregon 97754, (541) 416-6889 or e-mail: christina_lilienthal@blm.gov.

Deborah Henderson-Norton,
District Manager, BLM Prineville District Office.

[FR Doc. 2010-20231 Filed 8-16-10; 8:45 am]

BILLING CODE 4310-33-P